DEPARTMENT OF THE INTERIOR

Bureau of Indian Affairs

Notice of Fund Availability (NOFA)

AGENCY: Bureau of Indian Affairs, Interior.

ACTION: Notice of extension of application deadlines.

SUMMARY: The Bureau of Indian Affairs (BIA) published a notice in the Federal Register of February 4, 2002, announcing the availability of $1.5 million for funding to tribal courts (including Courts of Indian Offenses) and qualified tribal applicants that assume responsibility over Supervised IIM Accounts under 25 CFR part 115. This notice extends the application deadline to May 10, 2002.

DATES: The application deadline is extended from March 6, 2002 to May 10, 2002.

ADDRESSES: Send applications to Ralph Gonzales, Bureau of Indian Affairs, Office of Tribal Services, Branch of Judicial Services, MS Room 4660-MIB, 1849 C Street, NW., Washington, DC 20240; Fax No. (202) 208-5113.

FOR FURTHER INFORMATION CONTACT: Ralph Gonzales, (202) 208-4401.

SUPPLEMENTARY INFORMATION: As published in the Federal Register of February 4, 2002 (67 FR 5130), the deadline for submitting application forms under this NOFA was March 6, 2002. Because of several requests from tribal courts that 30 days to complete their applications does not provide enough time to collect required data from the BIA and to have the proper documentation acted on by the tribal government, we are extending the application deadline to May 10, 2002.

This notice is published under the authority delegated by the Secretary of the Interior to the Assistant Secretary—Indian Affairs by 209 Departmental Manual 8.1.

Dated: March 20, 2002.
Neal A. McCaleb,
Assistant Secretary—Indian Affairs.

[FR Doc. 02-7740 Filed 3-29-02; 8:45 am]

BILLING CODE 4310-4J-P